DEPARTMENT OF HOUSING AND URBAN DEVELOPMENT

[Docket No. FR-5055-N-02]

Use of Census Data in the Indian Housing Block Grant Program (IHBG); Notice of Reopening of Public Comment Period

AGENCY: Office of the Assistant Secretary for Public and Indian Housing, HUD.

ACTION: Notice of reopening of public comment period.

SUMMARY: On December 12, 2006, HUD published a notice in the Federal Register seeking public comment on HUD's use of multi-race data in the computation of the Indian Housing Block Grant (IHBG) program formula. This notice reopens the public comment period.

DATES: Comment Due Date: April 23, 2007

ADDRESSES: Interested persons are invited to submit comments regarding this rule to the Regulations Division, Office of General Counsel, Department of Housing and Urban Development, 451 Seventh Street, SW., Room 10276, Washington, DC 20410-0500. Interested persons may also submit comments electronically through the federal electronic rulemaking portal at: www.regulations.gov. HUD strongly encourages commenters to submit comments electronically in order to make them immediately available to the public. Commenters should follow the instructions provided on that site to submit comments electronically. Facsimile (FAX) comments are not acceptable. All communications must refer to the docket number and title. All comments and communications submitted will be available, without revision, for public inspection and copying between 8 a.m. and 5 p.m. weekdays at the above address. Due to security measures at the HUD Headquarters building, an advance appointment to review the public comments must be scheduled by calling the Regulations Divisions at (202) 708-3055 (this is not a toll-free number). Copies of the public comments submitted are also available for inspection and downloading at www.regulations.gov.

FOR FURTHER INFORMATION CONTACT: Rodger J. Boyd, Deputy Assistant Secretary for Native American Programs, Department of Housing and Urban Development, Office of Public and Indian Housing, 451 Seventh Street, SW., Room 4126, Washington, DC 20410-5000; telephone 202-401-7914 (this telephone number is not toll-free). Individuals with speech or hearing impairments may access this number through TTY by calling the toll-free Federal Information Relay Service at 1-800-877-8339.

SUPPLEMENTARY INFORMATION: On December 12, 2006 (71 FR 74748), HUD published a notice in the Federal Register that invited public comment on HUD's use of multi-race data in the computation of the IHBG program allocation formula. Specifically, HUD invited public comments on the feasibility of using either single race or multi-race data to determine funding for the Need component of the IHBG formula. See the December 12, 2006, notice for further information.

Since publication, HUD has learned that several commenters are unable to submit their comments by the original, February 12, 2006, deadline. Therefore, the deadline for public comments is being reopened for an additional 60 days to allow additional time for public input. Following HUD's review and consideration of the comments received on this notice, HUD may proceed with rulemaking as necessary.

Dated: February 12, 2007.
Orlando J. Cabrera,
Assistant Secretary for Public and Indian Housing.

[FR Doc. E7-2832 Filed 2-16-07; 8:45 am]

BILLING CODE 4210-67-P